NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 12, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-012

1. Applicant: Laura K.O. Smith, Quixote Expeditions, LLC. 1498 Paradise Point Rd., Oakland, MD 21550.

Activity for Which Permit is Requested: Waste Management. The applicant, Quixote Expeditions, LLC, seeks and Antarctic Conservation Act permit for waste management activities associated with the operation of the “Ocean Tramp,” a reinforced ketch rigged sailing yacht, and the “Hans Hansson,” a motorized vessel, in the Antarctic Peninsula region. Activities conducted by Quixote include: Passenger landings, kayaking, hiking, photography, coastal camping, wildlife viewing and potential station visits. Wastes generated during shore-based activities would be returned to the vessel for proper disposal and no poultry products shall be brought ashore at any time.

Coastal camping activities, including campsite selection, will follow criteria set forth in the IATTO Guidelines for Short Overnight Stays in Antarctica in order to minimize environmental impact. Emergency kits containing food rations and camping stoves will be brought ashore for overnight stays. All wastes, including food waste, generated during overnight stays will be collected and returned to the vessel for proper disposal following the activity. Mitigation measures are in place to prevent the release of any fuel used in camp stoves if necessary.

The applicant also proposes the operation of unoccupied aerial systems (UAS) for commercial and navigational purposes. UAS will only be flown by experienced pilots with more than 20 hours of flight experience. UAS will not be flown over any bird or wildlife colonies and pilots will follow guidelines and criteria set forth by IATTO. Potential risk will be assessed by crew members prior to each flight to determine feasibility of UAS use in current conditions.

Location: Antarctic Peninsula Region.

Dates of Permitted Activities: December 1, 2021-March 30, 2026.

Permit Application: 2022-013

2. Applicant: Lisa Bolton, Scenic Luxury Cruises & Tours, 20 Park Place Ste. 903, Boston, MA 02116.

Activity for Which Permit is Requested: Waste Management. The applicant proposes to operate small, battery-operated remotely piloted aircraft systems (RPAS) to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the RPA, including installing floatation devices in the case of an accidental water landing; only flying when the wind is less than 25 knots; constant monitoring of battery life throughout the duration of all flights; having an observer on the lookout for wildlife, people, and other hazards; and ensuring that the pilot always maintains visual contact with the RPA. The applicant would also operate two helicopters for sightseeing in the Antarctic Peninsula region. No landings would occur, except in the case of emergency. Helicopters will be garaged, fueled, and serviced on board the Scenic Eclipse. Helicopter operations will only occur weather conditions, including sufficiently low winds, that allow easy take-off and landing. Helicopters will be operated by trained, certified, and experienced pilots. Helicopters will carry emergency gear including cooking fuel and radios. The applicant is seeking a Waste Permit to cover any accidental releases that may result from operating the RPAS and helicopters.

Location: Antarctica Peninsula Region.

Dates of Permitted Activities: January 1, 2022-March 31, 2026.

Erika N. Davis,
Program Specialist, Office of Polar Programs.

[FR Doc. 2021-22204 Filed 10-12-21; 8:45 am]

BILLING CODE 7555-01-P